ENVIRONMENTAL PROTECTION AGENCY

[ER-FRL6674-2]

Environmental Impact Statements; Notice of Availability

Responsible Agency: Office of Federal Activities, General Information (202) 564-7167 or http://www.epa.gov/compliance/nepa/.

Weekly receipt of Environmental Impact Statements filed 04/03/2006 through 04/07/2006 pursuant to 40 CFR 1506.9.

EIS No. 20060122, Draft EIS, BIA, WA, Cowlitz Indian Tribe Trust Acquisition and Casino Project, Take 151.87 Acres into Federal Trust and Issuing of Reservation Proclamation, and Approving the Gaming Development and Management Contract, Clack County, WA.

Comment Period Ends: 07/14/2006, Contact: Chuck James 530-231-6229.

EIS No. 20060123, Final EIS, AFS, CO, Village at Wolf Creek Project, Application for Transportation and Utility Systems and Facilities, Proposed Development and Use of Road and Utility Corridors Crossing, National Forest System Lands to Access 287.5 Acres of Private Property Land, Mineral County, CO.

Wait Period Ends: 05/15/2006, Contact: Robert Dalrymple 719-852-5941.

EIS No. 20060124, Draft EIS, AFS, NM, Echo Trail Area Forest Management Project, Forest Vegetation Management and Related Transportation System, Superior National Forest Land and Resource Management Plan, Lacroix Ranger District and Kawishiwi Ranger District, St. Louis and Lake Counties, MN.

Comment Period Ends: 05/30/2006, Contact: Carol Booth 218-666-0020.

EIS No. 20060125, Draft EIS, FRC, WA, Baker River Hydroelectric Project, Application to Relicense the Upper Baker and Lower Baker Developments, Mt. Baker-Snoqualmie National Forest, Baker River, Whatcom and Skagit Counties, WA.

Comment Period Ends: 05/30/2006, Contact: Steve Hocking 202-502-8753.

EIS No. 20060126, Draft Supplement, NOA, 00, Bottomfish and Seamount Groundfish Fisheries of the Western Pacific Region, Approval for Measures to End Bottomfish Overfishing in the Hawaii Archipelago, HI, GU and AS.

Comment Period Ends: 05/30/2006, Contact: William L. Robinson 808-973-2937.

EIS No. 20060127, Draft EIS, AFS, CA, North 49 Forest Health Recovery Project, Restore Fire Adapted Forest System, Located in the Red (MA-16) and Logan (MA-45) Management Areas, Hat Creek Ranger District, Lassen National Forest, Shasta County, CA.

Comment Period Ends: 05/31/2006, Contact: Scott Stawiarski 530-336-5521.

EIS No. 20060128, Final EIS, FHW, UT, Brown Park Road Project, Reconstruction (Paving) and Partial Re-Alignment from Red Creek to Colorado State Line, Diamond Mountain Resource Management Plan Amendment (BLM), U.S. Army COE

Section 404 Permit, Daggett County, UT.

Wait Period Ends: 05/15/2006, Contact: Gregory Punske 801-768-7200 Ext 123.

EIS No. 20060129, Final EIS, FRC, FL, Cypress Pipeline Project and Phase VII Expansion Project, Construction and Operation, U.S. Army COE Section 10 and 404 Permits, Northern and Central Florida.

Wait Period Ends: 05/15/2006, Contact: Todd Sedmak 1-866-208-3372.

EIS No. 20060130, Final EIS, COE, CA, ADOPTION—CA-905 Freeway or Tollway Construction Project Route Location, Adoption and Construction, Otay Mesa Port of Entry to I-805, Funding and U.S. Army COE Section 404 Permit Issuance, San Diego County, CA.

Wait Period Ends: 05/15/2006, Contact: Terry Dean 858-674-5386.

Corps of Engineers (COE) has adopted the Department of Transportation's, Federal Highway Administration, FEIS #20040384, filed 08/10/2004. COE was not a Cooperating Agency on the above FEIS. Under § 1506.3(b) of the CEQ Regulations, the FEIS must be Recirculated for a 30-day Wait Period.

EIS No. 20060131, Draft EIS, AFS, OR, Kelsey Vegetation Management Project, Moving Resource Conditions Closer to the Goals and Desired Future Condition, Deschutes National Forest Land Resource Management Plan, Bend-Fort Rock Ranger District, Deschutes County, OR.

Comment Period Ends: 05/30/2006, Contact: David Frantz 541-383-4721.

EIS No. 20060132, Draft EIS, AFS, ID, White/White Analysis Project, Proposes Vegetative Management and Watershed Improvement, Lolo Creek, Chamook Creek, White Creek, Mike White Creek, Nevada Creek, and Utah Creek, Lochsa Ranger District, Clearwater National Forest, Idaho and Clearwater County, ID.

Comment Period Ends: 05/30/2006, Contact: Steve Bess 208-926-4274.

EIS No. 20060133, Final EIS, NRC, MS, Grand Gulf Early Site Permit (ESP) Site, Construction and Operation, Issuance of an Early Site Permit (ESP), NUREG-1817, Claiborne County, MS.

Wait Period Ends: 05/15/2006, Contact: James Wilson 301-415-1108.

Dated: April 11, 2006.
Robert W. Hargrove,
Director, NEPA Compliance Division, Office of Federal Activities.

[FR Doc. E6-5574 Filed 4-13-06; 8:45 am]

BILLING CODE 6560-50-P